DEPARTMENT OF ENERGY

Federal Energy Regulatory Commission

Combined Notice of Filings

Take notice that the Commission has received the following Natural Gas Pipeline Rate and Refund Report filings:

Docket Numbers: RP13-935-000.

Applicants: Kinder Morgan Louisiana Pipeline LLC.

Description: Periodic Rate Adjustment to be effective 7/1/2013.

Filed Date: 5/30/13.

Accession Number: 20130530-5044.

Comments Due: 5 p.m. ET 6/11/13.

Docket Numbers: RP13-936-000.

Applicants: Gulf South Pipeline Company, LP.

Description: ONEOK 34951 to BG 40982 Cap Rel Neg Rate Agmt to be effective 6/1/2013.

Filed Date: 5/30/13.

Accession Number: 20130530-5102.

Comments Due: 5 p.m. ET 6/11/13.

Docket Numbers: RP13-937-000.

Applicants: Big Sandy Pipeline, LLC.

Description: Phase 2 Clarifications and Enhancements to be effective 8/1/2013.

Filed Date: 5/30/13.

Accession Number: 20130530-5176.

Comments Due: 5 p.m. ET 6/11/13.

Docket Numbers: RP13-938-000.

Applicants: Tallgrass Interstate Gas Transmission, L.

Description: Neg Rate 2013-05-30 CSU A&R NC NRA to be effective 6/1/2013.

Filed Date: 5/30/13.

Accession Number: 20130530-5215.

Comments Due: 5 p.m. ET 6/11/13.

Docket Numbers: RP13-939-000.

Applicants: Guardian Pipeline, L.L.C.

Description: Scheduling Charges and Penalities to be effective 7/1/2013.

Filed Date: 5/30/13.

Accession Number: 20130530-5217.

Comments Due: 5 p.m. ET 6/11/13.

Docket Numbers: RP07-34-000.

Applicants: PANHANDLE JOINT PARTIES, Southwest Gas Storage Company, Panhandle Complainants, Panhandle Complainants v. Southwest Gas.

Description: Semi-Annual Compliance Report, for the period November 1, 2012 through April 30, 2013.

Filed Date: 5/31/13.

Accession Number: 20130531-5246.

Comment Date: 5 p.m. ET 6/12/13.

Docket Numbers: RP13-714-001.

Applicants: Hardy Storage Company, LLC.

Description: Hardy Storage Progress Report.

Filed Date: 05/31/2013.

Accession Number: 20130531-5055.

Comment Date: 5 p.m. ET 6/12/13.

Docket Numbers: RP13-940-000.

Applicants: Elba Express Company, L.L.C.

Description: Net Monthly Imbalance Clarification Filing to be effective 7/1/2013.

Filed Date: 05/31/2013.

Accession Number: 20130531-5027.

Comment Date: 5 p.m. ET 6/12/13.

Docket Numbers: RP13-941-000.

Applicants: Southern Star Central Gas Pipeline, Inc.

Description: Rate Case Filing May 2013 to be effective 7/1/2013.

Filed Date: 05/31/2013.

Accession Number: 20130531-5051.

Comment Date: 5 p.m. ET 6/12/13.

Docket Numbers: RP13-942-000.

Applicants: Panther Interstate Pipeline Energy, LLC.

Description: Panther Filing to Revise Non-Jurisdictional Gathering to be effective 7/1/2013.

Filed Date: 05/31/2013.

Accession Number: 20130531-5056.

Comment Date: 5 p.m. ET 6/12/13.

Docket Numbers: RP13-943-000.

Applicants: Equitrans, L.P.

Description: Negotiated Rate Service Agreements—EQT Energy, LLC to be effective 6/1/2013.

Filed Date: 05/31/2013.

Accession Number: 20130531-5067.

Comment Date: 5 p.m. ET 6/12/13.

Docket Numbers: RP13-944-000.

Applicants: Florida Gas Transmission Company, LLC.

Description: Exhibit B Amendment—Riviera East to be effective 6/1/2013.

Filed Date: 05/31/2013.

Accession Number: 20130531-5073.

Comment Date: 5 p.m. ET 6/12/13.

Docket Numbers: RP13-945-000.

Applicants: Elba Express Company, L.L.C.

Description: Annual Cashout True-Up Report.

Filed Date: 05/31/2013.

Accession Number: 20130531-5077.

Comment Date: 5 p.m. ET 6/12/13.

Docket Numbers: RP13-946-000.

Applicants: Discovery Gas Transmission LLC.

Description: Report of Discovery Gas Transmission LLC.

Filed Date: 05/31/2013.

Accession Number: 20130531-5079.

Comment Date: 5 p.m. ET 6/12/13.

Docket Numbers: RP13-947-000.

Applicants: MarkWest Pioneer, L.L.C.

Description: MarkWest Pioneer—Revisions to Pro Forma IT Agreement to be effective 7/1/2013.

Filed Date: 05/31/2013.

Accession Number: 20130531-5095.

Comment Date: 5 p.m. ET 6/12/13.

Docket Numbers: RP13-948-000.

Applicants: Kern River Gas Transmission Company.

Description: 2013 LADWP Nonconforming to be effective 5/28/2013.

Filed Date: 05/31/2013.

Accession Number: 20130531-5113.

Comment Date: 5 p.m. ET 6/12/13.

Docket Numbers: RP13-949-000.

Applicants: Eastern Shore Natural Gas Company.

Description: Fuel Retention Adjustment/Cash-Out Refund to be effective 7/1/2013.

Filed Date: 05/31/2013.

Accession Number: 20130531-5126.

Comment Date: 5 p.m. ET 6/12/13.

Docket Numbers: RP13-950-000.

Applicants: CenterPoint Energy—Mississippi River T.

Description: Negotiated Rate Filing to Remove #4100 and Amend #3575_06-01-13 to be effective 6/1/2013.

Filed Date: 05/31/2013.

Accession Number: 20130531-5132.

Comment Date: 5 p.m. ET 6/12/13.

Docket Numbers: RP13-951-000.

Applicants: Ruby Pipeline, L.L.C.

Description: EPC and FL&U Rate Adjustment effective 7/1/13 to be effective 7/1/2013.

Filed Date: 05/31/2013.

Accession Number: 20130531-5155.

Comment Date: 5 p.m. ET 6/12/13.

Docket Numbers: RP13-952-000.

Applicants: MarkWest Pioneer, L.L.C.

Description: Quarterly Fuel Adjustment Filing of MarkWest Pioneer, L.L.C.

Filed Date: 05/31/2013.

Accession Number: 20130531-5162.

Comment Date: 5 p.m. ET 6/12/13.

Docket Numbers: RP13-953-000.

Applicants: Colorado Interstate Gas Company, L.L.C.

Description: Quarterly FL&U Filing effective July 1, 2013 to be effective 7/1/2013.

Filed Date: 05/31/2013.

Accession Number: 20130531-5164.

Comment Date: 5 p.m. ET 6/12/13.

Docket Numbers: RP13-954-000.

Applicants: Transwestern Pipeline Company, LLC.

Description: 2013 TW Phoenix Rates for FTS-1, FTS-4, LFT and ITS-1 to be effective 7/1/2013.

Filed Date: 05/31/2013.

Accession Number: 20130531-5173.

Comment Date: 5 p.m. ET 6/12/13.

Docket Numbers: RP13-955-000.

Applicants: CenterPoint Energy Gas Transmission Comp.

Description: CEGT LLC-2013 Negotiated Rate Filing-June to be effective 6/1/2013.

Filed Date: 05/31/2013.

Accession Number: 20130531-5176.

Comment Date: 5 p.m. ET 6/12/13.

Docket Numbers: RP13-956-000.

Applicants: TransColorado Gas Transmission Company L.

Description: Negotiated Rate Agreement Update to be effective 6/1/2013.

Filed Date: 05/31/2013.

Accession Number: 20130531-5182.

Comment Date: 5 p.m. ET 6/12/13.

Docket Numbers: RP13-957-000.

Applicants: Colorado Interstate Gas Company, L.L.C.

Description: High Plains 2013 Expansion Compliance to be effective 7/1/2013.

Filed Date: 05/31/2013.

Accession Number: 20130531-5195.

Comment Date: 5 p.m. ET 6/12/13.

Docket Numbers: RP13-958-000.

Applicants: Northern Natural Gas Company.

Description: 20130531 Negotiated Rate to be effective 6/1/2013.

Filed Date: 05/31/2013.

Accession Number: 20130531-5254.

Comment Date: 5 p.m. ET 6/12/13.

Docket Numbers: RP13-959-000.

Applicants: Ozark Gas Transmission, L.L.C.

Description: Neg Rate—Tenaska Marketing Ventures 6-1-2013 to be effective 6/1/2013.

Filed Date: 05/31/2013.

Accession Number: 20130531-5268.

Comment Date: 5 p.m. ET 6/12/13.

Docket Numbers: RP13-960-000.

Applicants: Columbia Gulf Transmission, LLC.

Description: Pooling to be effective 7/1/2013.

Filed Date: 05/31/2013.

Accession Number: 20130531-5271.

Comment Date: 5 p.m. ET 6/12/13.

Docket Numbers: RP13-961-000.

Applicants: Trailblazer Pipeline Company LLC.

Description: 2013-05-31 Receipts to Deliveries to be effective 7/1/2013.

Filed Date: 05/31/2013.

Accession Number: 20130531-5272.

Comment Date: 5 p.m. ET 6/12/13.

Docket Numbers: RP13-962-000.

Applicants: ANR Pipeline Company.

Description: STS Availability Revision to be effective 7/1/2013.

Filed Date: 05/31/2013.

Accession Number: 20130531-5290.

Comment Date: 5 p.m. ET 6/12/13.

Docket Numbers: RP13-963-000.

Applicants: Tallgrass Interstate Gas Transmission, L.

Description: Neg Rate 2013-05-31 NC Black Hills, NRA Midwest Energy to be effective 6/1/2013.

Filed Date: 05/31/2013.

Accession Number: 20130531-5347.

Comment Date: 5 p.m. ET 6/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated June 3, 2013.
Nathaniel J. Davis, Sr.,
Deputy Secretary.

[FR Doc. 2013-13589 Filed 6-6-13; 8:45 am]

BILLING CODE 6717-01-P